DEPARTMENT OF EDUCATION

Privacy Act of 1974; Computer Matching Program

AGENCY: Department of Education.

ACTION: Notice—New computer matching agreement between the Department of Education and the Department of Defense.

SUMMARY: Section 473(b) of the Higher Education Act of 1965, as amended (HEA) (20 U.S.C. 1087mm(b)) requires the Secretary of Defense to provide the Secretary of Education with information to identify children whose parent or guardian was a member of the Armed Forces of the United States and died as a result of performing military service in Iraq or Afghanistan after September 11, 2001. Beginning with the 2009-2010 Award Year, a qualifying student may be eligible for a higher amount of Title IV, HEA program assistance. The qualifying student must have been age 24 or less at the time of the parent or guardian's death or, if older than 24, enrolled in an institution of higher education on a part-time or full-time basis at the time of the parent or guardian's death. Beginning July 1, 2010, students who are otherwise qualified children of deceased U.S. military who meet the requirements of section 420R of the HEA (20 U.S.C. 1070h) (effective July 1, 2010) may also be eligible for higher amounts of Title IV, HEA program assistance.

In order to ensure that students whose parent or guardian died as a result of performing United States military service in Iraq or Afghanistan after September 11, 2001 receive the maximum allowable amount of Title IV, HEA program assistance, the Department of Defense and the Department of Education are implementing a new computer matching program to commence in the fall of 2009.

The purpose of this notice is to announce the new computer matching program and to provide certain required information concerning the computer matching program.

In accordance with the Privacy Act of 1974 (5 U.S.C. 552a), as amended by the Computer Matching and Privacy Protection Act of 1988 (Pub. L. 100-503) and the Office of Management and Budget (OMB) Guidelines on the Conduct of Matching Programs (54 FR 25818, June 19, 1989), and OMB Circular A-130, the following information is provided:

1. Names of Participating Agencies.

The Department of Education (ED) (recipient agency) and the Department of Defense (DoD)(source agency).

2. Purpose of the Match.

The purpose of this matching program is to ensure that the requirements of sections 420R and 473(b) of the Higher Education Act of 1965, as amended (HEA) (20 U.S.C. 1070h and 20 U.S.C. 1087mm(b)) are fulfilled.

DoD is the lead contact agency for information related to benefits for military service dependents and, as such, provides these data to ED. ED (recipient agency) seeks access to the information contained in the DoD (source agency) Defense Manpower Data Center (DMDC) system and the Defense Enrollment Eligibility Reporting System (DEERS) that contains information ED requires.

3. Authority for Conducting the Matching Program.

Under sections 420R and 473(b) of the HEA (20 U.S.C. 1070h and 20 U.S.C. 1087mm(b)) ED must identify the children of military personnel who have died as a result of their military service in Iraq or Afghanistan after September 11, 2001 to determine if the child is eligible for increased amounts of Title IV, HEA program assistance.

DoD and ED have determined that using DoD data provided to ED for matching against ED's Federal Student Aid Application File (18-11-01) is the only practical method that the agencies can use to meet the statutory requirements of the HEA.

4. Categories of Records and Individuals Covered by the Match.

DoD will submit, for verification, records from its DMDC and DEERS data bases to ED's Central Processing System files (Federal Student Aid Application File (18-11-01)), the Social Security number (SSN) and other identifying information for each DoD selected qualifying dependent record. ED will use the SSN, date of birth, and the first two letters of an applicant's last name to match with the Federal Student Aid Application File.

The DoD DMDC and DEERS systems contains the names, SSNs, dates of birth, and other identifying information regarding dependents of service personnel who died as a result of performing their military service in Iraq or Afghanistan after September 11, 2001. This system of records also contains the date the servicemember died.

5. Effective Dates of the Matching Program.

The matching program will be effective on the last of the following dates: (1) Thirty (30) days after notice of the matching program has been published in the Federal Register; or (2) forty (40) days after a report concerning the matching program has been transmitted to OMB and transmitted to the Congress along with a copy of this agreement, unless OMB waives 10 days of this 40-day period for compelling reasons, in which case, 30 days after transmission of the report to OMB and Congress.

The matching program will continue for 18 months after the effective date of the computer matching agreement and may be extended for an additional 12 months thereafter, if the conditions specified in 5 U.S.C. 552a(o)(2)(D) have been met.

6. Address for Receipt of Public Comments or Inquiries.

Marya Dennis, Management and Program Analyst, U.S. Department of Education, Federal Student Aid, Union Center Plaza, 830 First Street, NE., Washington, DC 20202-5454. Telephone: (202) 377-3385. If you use a telecommunications device for the deaf (TDD), you may call the Federal Relay Service (FRS) at 1-800-877-8339.

Individuals with disabilities can obtain this document in an accessible format (e.g., braille, large print, audiotape or computer diskette) on request to the contact person listed in the preceding paragraph.

Electronic Access to This Document

You can view this document, as well as all other documents of this Department published in the Federal Register in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO access at: http://www.gpoaccess.gov/nara/index.html.

Authority: 5 U.S.C. 552a; 21 U.S.C. 862(a)(1).

Dated: November 13, 2009.
William J. Taggart,
Chief Operating Officer, Federal Student Aid.

[FR Doc. E9-27841 Filed 11-18-09; 8:45 am]

BILLING CODE 4000-01-P